DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its Human Reliability Program (HRP), OMB Control Number 1910-5122. The collections consist of forms that will certify to DOE that respondents were advised of the requirements for occupying or continuing to occupy a HRP position. The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives.

DATES: Comments regarding this collection must be received on or before August 23, 2006. If you anticipate that you will be submitting comments, but find it difficult to do so within the period of time allowed by this notice, please advise the OMB Desk Officer of your intention to make a submission as soon as possible. The Desk Officer may be telephoned at 202-395-4650.

ADDRESSES: Written comments should be sent to: Jeffrey Martus, IM-11/Germantown Building, U.S. Department of Energy, 1000 Independence Ave SW., Washington, DC 20585-1290. Or by fax at 301-903-9061 or by e-mail at Jeffrey.martus@hq.doe.gov.

Comments should also be addressed to:

Sharon A. Evelin, Director, IM-11/Germantown Bldg., U.S. Department of Energy, 1000 Independence Ave., SW., Washington, DC 20585-1290,

and to:

Kathy Murphy, SP-1.22 Germantown Building, U.S. Department of Energy, 19901 Germantown Road, Germantown, Maryland 20874-1290.

FOR FURTHER INFORMATION CONTACT: Sharon A. Evelin and Kathy Murphy, at the addresses listed above in ADDRESSES.

SUPPLEMENTARY INFORMATION: This package contains: (1) OMB No.: 1910-5122; (2) Package Title: Human Reliability Program (3) Purpose: for DOE management to ensure that individuals who occupy HRP positions meet program standards of reliability and physical and mental suitability; (4) Estimated Number of Respondents: 11,500; (5) Estimated Total Burden Hours: 5,750; (6) Number of Collections: The package contains five (5) information and/or recordkeeping requirements.

Statutory Authority: Department of Energy Organization Act, Public Law 95-91, of August 4, 1977.

Issued in Washington, DC on July 17, 2006.
Jeffrey Martus,
Records Management Division (IM-11), Office of the Chief Information Officer.

[FR Doc. E6-11710 Filed 7-21-06; 8:45 am]

BILLING CODE 6450-01-P